DEPARTMENT OF COMMERCE

Foreign-Trade Zones Board

[Docket 57-2010]

Foreign-Trade Zone 148—Knoxville, TN; Application for Subzone; Toho Tenax America, Inc. (Carbon Fiber and Oxidized Polyacrylonitrile Fiber Manufacturing); Rockwood, TN

An application has been submitted to the Foreign-Trade Zones Board (the Board) by the Industrial Development Board of Blount County, Tennessee, grantee of FTZ 148, requesting special-purpose subzone status for the carbon fiber and oxidized polyacrylonitrile fiber (OPF) manufacturing and warehousing facilities of Toho Tenax America, Inc. (Toho), located in Rockwood, Tennessee. The application was submitted pursuant to the provisions of the Foreign-Trade Zones Act, as amended (19 U.S.C. 81a-81u), and the regulations of the Board (15 CFR part 400). It was formally filed on September 29, 2010.

The Toho facilities (154 employees) consist of two sites in Rockwood, Tennessee: Site 1 (20 acres, 192,932 sq. ft. of enclosed space)—manufacturing plant, located at 121 Cardiff Valley Road; and, Site 2—60,000 square foot warehouse facility, located at 200 Cardiff Valley Road. Activity to be conducted under FTZ procedures would include manufacturing, warehousing and distribution of polyacrylonitrile (PAN)—based carbon fiber and OPF (up to 4,000 metric tons combined annually) for export and the domestic market. The company manufactures standard grade carbon fiber for industrial and recreational uses, including wind turbine blades, specialty plastics, oil flotation devices, pressure vessels, and golf club shafts. The OPF is primarily used in aircraft brakes, but is also used in some technical yarns. Foreign-origin PAN fiber (HTSUS 5501.30, duty rate: 7.5%) is used as the primary production input, which represents some 35-45 percent of finished product value.

FTZ procedures could exempt Toho from customs duty payments on the foreign PAN fiber used in export production (some 30 percent of annual shipments). On its domestic sales, Toho would be able to choose the duty rate during customs entry procedures that applies to the finished carbon fiber (HTSUS 6815.10, duty-free) for the foreign PAN fiber. The OPF is classified under the same HTSUS subheading (5501.30) as the foreign PAN fiber input and would not involve inverted tariff savings. Toho would also be exempt from duty payments on any foreign-origin PAN fiber that becomes scrap or waste during manufacturing. FTZ designation may further allow Toho to realize logistical benefits through the use of weekly customs entry and direct delivery procedures. The request indicates that the savings from FTZ procedures would help improve the facilities' international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is December 6, 2010. Rebuttal comments in response to material submitted during the foregoing period may be submitted during the subsequent 15-day period to December 20, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov or (202) 482-1367.

Dated: September 30, 2010.
Andrew McGilvray,
Executive Secretary.

[FR Doc. 2010-25227 Filed 10-5-10; 8:45 am]

BILLING CODE P